DEPARTMENT OF HEALTH AND HUMAN SERVICES

Food and Drug Administration

21 CFR Part 589

[Docket No. FDA-2002-N-0031] (formerly Docket No. 2002N-0273)

RIN 0910-AF46

Substances Prohibited From Use in Animal Food or Feed; Confirmation of Effective Date of Final Rule; Correction

AGENCY: Food and Drug Administration, HHS.

ACTION: Final rule; confirmation of effective date; correction.

SUMMARY: The Food and Drug Administration (FDA) is correcting a final rule; confirmation of effective date, that appeared in the Federal Register of Friday, April 24, 2009 (74 FR 18626) (the April 24, 2009, final rule; confirmation of effective date). That document had confirmed the effective date of April 27, 2009, for a final rule that published in the Federal Register of April 25, 2008 (73 FR 22720), entitled “Substances Prohibited From Use in Animal Food or Feed.” In the April 24, 2009, final rule; confirmation of effective date, the agency also established a compliance date of October 26, 2009, in order to allow additional time for renderers to comply with the new requirements. The April 24, 2009, final rule; confirmation of effective date was published with an inadvertent error in the “Background” section. This document corrects that error.

DATES: This correction is effective: May 5, 2009.

FOR FURTHER INFORMATION CONTACT: Joyce A. Strong, Office of Policy, Planning, and Preparedness (HF-27), Food and Drug Administration, 5600 Fishers Lane, Rockville, MD 20857, 301-827-7010.

SUPPLEMENTARY INFORMATION: In FR Doc. E9-9466, appearing on page 18626 in the Federal Register of Friday, April 24, 2009, the following correction is made:

On page 18626, in the third column, under “I. Background,” in the first paragraph, the first sentence “In the Federal Register of April 25, 2008, FDA published a final rule entitled “Substances Prohibited From Use in Animal Food or Feed)” (referred to herein as the April 25, 2008, final rule), that would become effective 1 year after the April 27, 2009, date of publication.” is corrected to read “In the Federal Register of April 25, 2008, FDA published a final rule entitled “Substances Prohibited From Use in Animal Food or Feed” (referred to herein as the April 25, 2008, final rule), that would become effective 1 year after that publication.”

Dated: April 28, 2009.
Jeffrey Shuren,
Associate Commissioner for Policy and Planning.

[FR Doc. E9-10138 Filed 5-4-09; 8:45 am]

BILLING CODE 4160-01-S